ENVIRONMENTAL PROTECTION AGENCY

[ER-FRL-6251-5]

Environmental Impact Statements and Regulations; Availability of EPA Comments

Availability of EPA comments prepared February 07, 2000 through February 11, 2000 pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 09, 1999 (63 FR 17856).

Draft EISs

ERP No. D-AFS-E65052-KY Rating EC1, Daniel Boone National Forest, Implementation, Salvage Harvest Due to 1998 Storm Damage Timber, McCreary and Pulaske County, KY.

Summary: EPA expressed environmental concerns about potential adverse impacts regarding water quality, riparian vegetation and increased bank erosion. EPA recommends implementing Alternative C which appears to strike a good balance by minimizing impacts to the sensitive important Rock and Marsh Creek corridors.

ERP No. D-BLM-J02038-WY Rating LO, Pinedale Anticline Oil and Gas Exploration and Development Natural Gas Wells Project, Implementation, Sublette County, WY.

Summary: EPA has no objections to the action as proposed.

ERP No. D-COE-K36131-CA Rating EC2, Lower Mission Creek Flood Control Project, Proposed Plan for Flood Control, City of Santa Barbara, Santa Barbara County, CA.

Summary: EPA concurred that alternative 12 would increase biological, visual, and water resource values associated with Mission Creek and would enhance flood control. EPA expressed concerns that the Tidewater Goby may be adversely affected and recommended that potential for scouring; wetland washouts; and culvert clogging be further addressed and rectified in the FEIS.

ERP No. D-FHW-E40781-TN Rating EC2, Interstate 40 (I-40) Transportation Improvements from I-75 to Cherry Street in Knoxville, Funding, NPDES and COE Section 404 Permits, Knox County, TN.

Summary: EPA expressed environmental concerns regarding potential noise and cultural resource impacts. EPA requested that these issues be addressed in greater detail in the final document.

ERP No. D-FHW-E40782-NC Rating EC2, Western Wake Freeway, Transportation Improvements from NC-55 at NC-1172 (Old Smithfield Road) to NC-55 near NC-1630 (Alston Avenue), Funding and COE 404 Permit, Wake County, NC.

Summary: EPA expressed environmental concerns that the residential noise impacts will be substantial for all of the alternatives and that additional efforts are needed to lessen them. Additionally, EPA expressed concerns for the cumulative social impacts to one community and for storm water impacts for the entire project.

ERP No. D-NPS-F65025-MI Rating EC2, Sleeping Bear Dunes National Lakeshore, Historic Properties Management Plan, Implementation, MI.

Summary: EPA expressed environmental concerns about the potential adverse impacts of development to the lakeshore resources and requested that the final EIS include information addressing the types of activities that will be subject to NEPA and the relationship between the Historic Properties Management Plan and the General Management Plan.

FINAL EISs

ERP No. F-FHW-F40085-IN US 231 Transportation Project, New Construction from CR-200 N to CR-1150 S, Funding, Right-of-Way Permit and COE Section 404 Permit, Spencer and Dubois Counties, IN.

Summary: The information provided in the final EIS is sufficient to resolve EPA's previously expressed concerns for documentation of the project's Purpose and Need, Range of Alternatives to be Evaluated, and Selection of a Preferred Alternative. Additionally, the Conceptual Wetlands Mitigation Plan described is also acceptable.

ERP No. F-FHW-G40148-00 US-71 Transportation Improvements, from south of Bella Vista to Pineville, Benton County, AR and McDonald County, MO.

Summary: EPA has no further comments. The final EIS adequately responded to EPA's comments on the draft EIS.

ERP No. F-FHW-J54000-CO Southeast Corridor Multi-Modal Project, To Improve Travel between Central and Southeast Corridors, Light Rail Transit (LRT), Colorado Metropolitan Area, Denver, CO.

Summary: EPA continues to express concerns regarding potential indirect and cumulative impacts.

ERP No. F-FTA-L53002-WA Everett-to-Seattle Commuter Rail Project, Construction and Operation, To Link the Cities of Everett, Mukilteo, Edmonds, Shoreline, and the Seattle Waterfront, U.S. Coast Guard, COE Section 10 and 404 Permits, Snohomish County, WA.

Summary: EPA's primary concern was addressed in the final EIS: the preferred alternative identified will have fewer impacts to the environmental than the other build alternatives.

ERP No. F-NRC-E06003-SC Generic EIS—License Renewal of Nuclear Plants for the Oconee Nuclear Station, Units 1, 2 and 3, Implementation, Oconee County, SC.

Summary: EPA continues to express environmental concerns regarding offsite radiological impacts. EPA requested that these issues be discussed in more detail during the relicensing process.

Dated: February 22, 2000.
Joseph C. Montgomery,
Environmental Protection Specialist Office of Federal Activities.

[FR Doc. 00-4517 Filed 2-24-00; 8:45 am]

BILLING CODE 6560-50-P